DEPARTMENT OF COMMERCE

National Oceanic and Atmospheric Administration

50 CFR Part 300

[Docket No. 010607147-1200-02; I.D. 052101A]

RIN 0648-AP26

Pacific Halibut Fisheries; Primary Sablefish Fishery

AGENCY: National Marine Fisheries Service (NMFS), National Oceanic and Atmospheric Administration (NOAA), Commerce.

ACTION: Final rule.

SUMMARY: NMFS issues this final rule to provide a regulatory framework for implementing Area 2A Pacific Halibut Catch Sharing Plan (CSP) allocations to the Pacific Coast, limited entry primary sablefish fishery. This final rule allows halibut taken incidentally in the primary longline sablefish fishery to be retained and landed, and provides a framework for the Pacific Fishery Management Council (Council) to recommend halibut catch limits for the sablefish fishery when a halibut quota is available to that fishery. The CSP provides for an incidental halibut retention in the limited entry, primary fixed gear sablefish fishery north of Pt. Chehalis, WA in years when the Area 2A total allocable catch (TAC) of Pacific halibut exceeds 900,000 lb (408.2 metric tons (mt)). The Pacific halibut TAC exceeded that amount for the first time in 2001. This action provides the regulatory framework that carries out the intent of the Council that the limited entry primary sablefish fishery be provided an incidental halibut retention allowance under this condition.

DATES: Effective August 10, 2001.

ADDRESSES: Copies of the Environmental Assessment/Regulatory Impact Review (EA/RIR) for this action are available from Donald McIsaac, Executive Director, Pacific Fishery Management Council (Council), 7700 NE Ambassador Pl., Portland, OR 97220-1384.

FOR FURTHER INFORMATION CONTACT: Yvonne deReynier, 206-526-6140.

SUPPLEMENTARY INFORMATION: This final rule revises the Pacific Halibut Fisheries regulations at 50 CFR Part 300 to allow halibut taken incidentally in the primary longline sablefish fishery to be retained and landed when there is sufficient halibut in the Area 2A (waters off Washington, Oregon, California) TAC to provide a quota for this fishery. This final rule establishes a framework for the Council to recommend incidental halibut landings limits for the longline sablefish fishery. This final rule is based on recommendations of the Council, under the authority of the Pacific Halibut Act and the Area 2A CSP. NMFS published a proposed rule to implement those recommendations on June 14, 2001 (66 FR 32310). No public comments were received during the comment period ending July 16, 2001.

Pacific halibut fisheries off Washington, Oregon, and California are managed under the Pacific halibut CSP for the International Pacific Halibut Commission (Commission) regulatory Area 2A. Overall harvest levels are set by the Commission at its annual meeting in January of each year. For 2001, the Commission set the Area 2A TAC at 1,140,000 lb (517 mt). NMFS implemented this TAC and the resulting sub-quotas for most Area 2A fisheries (including the sub-quota for this fishery) in a final rule published in the Federal Register on March 21, 2001 (66 FR 15801).

The CSP provides for an incidental halibut retention allowance in the limited entry, primary fixed gear sablefish fishery north of Pt. Chehalis, WA in years when the Area 2A TAC is above 900,000 lb (408.2 mt). This provision of the CSP was introduced in 1998, but the Area 2A TAC did not rise above 900,000 lb (408.2 mt) until this year. According to the CSP, the primary sablefish fishery is allocated the amount of halibut from the portion of the Washington sport fishery allocation (36.6 percent of the Area 2A TAC) that is in excess of 214,110 lb (97.1 mt), provided that a minimum of 10,000 lb (4.5 mt) is available to the sablefish fishery. Under the 2001 Area 2A TAC of 1,140,000 lb (517 mt), the primary sablefish fishery allocation for 2001 is 47,946 lb (21.7 mt).

While the CSP provides the formula for calculating the primary sablefish fishery’s halibut allocation, it does not specify a regulatory framework for the retention of halibut taken incidentally during the sablefish fishery. Similarly, the CSP specifies a formula for determining the amount of halibut available for incidental retention in the salmon troll fishery without setting a regulatory framework managing per-vessel retention levels. To implement the CSP for the salmon troll fishery, Federal halibut regulations at 50 CFR 300.63(a)(2) state,

A portion of the commercial [halibut] TAC is allocated as incidental catch in the salmon troll fishery in Area 2A. Each year the landing restrictions necessary to keep the fishery within its allocation will be recommended by the Pacific Fishery Management Council at its spring meetings, and will be published in the Federal Register along with the annual salmon management measures.

During its March and April 2001 meetings, the Council crafted a regulatory framework to ensure that a halibut quota would be available for the anticipated August through October primary longline sablefish fishery. The Council has recommended revising the Federal halibut regulations to provide a framework similar to the salmon troll framework that directs the Council to annually recommend halibut retention limits for the primary sablefish fishery at its March and April meetings. Under this framework, the Council will recommend annual halibut landings limits for vessels participating in the primary sablefish fishery, based on the amount of halibut available to the fishery and the expected number of fishery participants. Each year, NMFS will publish the Council’s recommended halibut retention limits in the Federal Register. This regulatory framework would only be used in years when the Area 2A TAC is above 900,000 lb (408.2 mt).

According to IPHC and Federal regulations, Pacific halibut may not be taken by gear other than longline gear. Only vessels registered for use with sablefish endorsement limited entry permits may participate in the primary fixed gear sablefish fishery specified for halibut retention in the CSP. Halibut may only be taken with longline gear. These vessels must also carry IPHC commercial halibut licenses in order to retain and land halibut. Halibut retention in the primary sablefish fishery will also only be available to vessels operating north of Pt. Chehalis, WA (46°53′18″ N. lat.) There is a directed fishery for halibut south of Pt. Chehalis, which receives a halibut allocation every year, regardless of the size of the TAC.

At its June 2001 meeting, the Council recommended a 2001- halibut retention ratio of 80 lb (36 kg) of halibut per 1,000 lb (454 kg) of sablefish, plus up to two additional halibut per fishing trip. Each vessel would be constrained by season cumulative limits for halibut linked to their tiered sablefish cumulative limits, allowing a vessel to take no more than 2,850 lb (1,293 kg) of halibut for Tier 1 vessels, 1,300 lb (590 kg) of halibut for Tier 2 vessels, and 750 lb (340 kg) of halibut for Tier 3 vessels. This recommendation is consistent with this final rule and is implemented by NMFS for the 2001 primary sablefish season through this action.

NMFS Actions

In addition to implementing the Council’s recommendation, , the final rule announces the cumulative landings limits for halibut taken incidentally with longline gear in the limited entry, primary fixed gear fishery for sablefish north of Pt. Chehalis, WA. Because this halibut will be taken by vessels participating in the limited entry groundfish fishery, incidental halibut cumulative landings limits will be announced as an amendment to the Pacific Coast groundfish 2001 annual specifications and management measures, originally published at 66 FR 2338, January 11, 2001, and amended at the 2001 annual specifications and management measures at 66 FR 2338, January 11, 2001, as amended at 66 FR 10211 (February 14, 2001), at 66 FR 18409 (April 9, 2001), at 66 FR 22467 (May 4, 2001), at 66 FR 28676 (May 24, 2001), at 66 FR 35388 (July 5, 2001), and at 66 FR 38162 (July 23, 2001). This action further amends the specifications and management measures to read as follows:

(1) In Section IV, under B. Limited Entry Fishery, a new paragraph (2)(b)(i)(A) is added.

IV. NMFS Actions

B. Limited Entry Fishery

* * * * *

(2) Sablefish. * * *

(b) Nontrawl trip and size limits. * * *

(i) Primary season. * * *

(A) Incidental halibut retention north of Pt. Chehalis, WA (46°53′18" N. lat.) Vessels authorized to participate in the primary sablefish fishery, licensed by the International Pacific Halibut Commission for commercial fishing in Area 2A (waters off Washington, Oregon, California), and fishing with longline gear north of Pt. Chehalis, WA (46°53′18″ N. lat.) may land up to the following cumulative limits: 80 lb (36 kg) of halibut per 1,000 lb (454 kg) of sablefish, plus up to two additional halibut per fishing trip. In addition, the following per vessel, primary season cumulative limits apply: 2,850 lb (1,293 kg) of halibut for Tier 1 vessels, 1,300 lb (590 kg) of halibut for Tier 2 vessels, and 750 lb (340 kg) of halibut for Tier 3 vessels. If a vessel is registered for use with more than one sablefish endorsed limited entry permit, the cumulative halibut limit of the tier associated with the vessel’s base permit (indicated on the permit) applies. Halibut limits are in net weight (head-off, gutted); sablefish limits are in round weight.

(B) [Reserved]

* * * * *

Classification

This final rule has been determined to be not significant for purposes of Executive Order 12866.

The Chief Counsel for Regulation of the Department of Commerce certified to the Chief Counsel for Advocacy of the Small Business Administration when this rule was proposed, that this rule, if adopted as proposed, would not have a significant economic impact on a substantial number of small entities.

Under 5 U.S.C. 553(d)(3), NMFS finds good cause to waive the 30-day delay in effectiveness for this final rule. This rule implements the CSP by allowing longline vessels fishing north of Pt. Chehalis, WA to retain halibut caught incidentally in the primary fixed gear sablefish fishery. The primary sablefish fishery is expected to start on August 15. If this rule is not effective before the start of the primary season, longliners who catch halibut incidental to their sablefish fishing operations will have to discard that halibut.

Halibut and sablefish are frequently found in the same fishing grounds. The primary sablefish fishery is an intensely concentrated period of sablefish fishing and the sheer volume of sablefish targeting during this period increases a vessel’s chance of also catching halibut. Halibut caught by longline often survive the capture-and-release process if they are released carefully. However, not all halibut survive capture and discard, which means that delaying effectiveness of this final rule could result in unnecessary halibut discard mortality.

A delay in effectiveness of this rule could unnecessarily prevent sablefish longliners from retaining incidentally caught halibut that might die from the capture-and-release process. This rule would also relieve a regulatory restriction in that it would allow vessels to retain halibut that they could not otherwise access. For these reasons, delaying the effectiveness of this final rule would be contrary to public interest.

List of Subjects in 50 CFR Part 300

Fisheries, Fishing, Reporting and recordkeeping requirements, Treaties.

Dated: August 6, 2001.
William T. Hogarth,
Acting Assistant Administrator for Fisheries, National Marine Fisheries Service.

For reasons set out in the preamble, 50 CFR part 300 is amended as follows:

PART 300—INTERNATIONAL FISHERIES REGULATIONS

1. The authority citation for 50 CFR part 300, subpart E continues to read as follows:

Authority: 16 U.S.C. 773-773k.

2. In § 300.63, paragraphs (a)(3) and (a)(4) are re-designated as paragraphs (a)(4) and (a)(5), respectively, and a new paragraph (a)(3) is added to read as follows:

§ 300.63 Catch sharing plans, local area management plans, and domestic management measures.

* * * * *

(a) * * *

(3) A portion of the Area 2A Washington recreational TAC is allocated as incidental catch in the primary directed longline sablefish fishery north of 46°53′18″ N. lat, (Pt. Chehalis, WA), which is regulated under 50 CFR 660.323(a)(2). This fishing opportunity is only available in years in which the Area 2A TAC is greater than 900,000 lb (408.2 mt,) provided that a minimum of 10,000 lb (4.5 mt) is available above a Washington recreational TAC of 214,100 lb (97.1 mt). Each year that this harvest is available, the landing restrictions necessary to keep this fishery within its allocation will be recommended by the Pacific Fishery Management Council at its spring meetings, and will be published in the Federal Register. These restrictions will be designed to ensure the halibut harvest is incidental to the sablefish harvest and will be based on the amounts of halibut and sablefish available to this fishery, and other pertinent factors. The restrictions may include catch or landing ratios, landing limits, or other means to control the rate of halibut landings.

(i) In years when this incidental harvest of halibut in the directed sablefish fishery north of 46°53′18″ N. lat. is allowed, it is allowed only for vessels using longline gear that are registered to groundfish limited entry permits with sablefish endorsements and that possess the appropriate incidental halibut harvest license issued by the Commission.

(ii) It is unlawful for any person to possess or land halibut south of 46°53′18″ N. lat that were taken and retained north of 46°53′18″ N. lat. as incidental catch authorized by this section in the directed longline sablefish fishery.

* * * * *

[FR Doc. 01-20119 Filed 8-9-01; 8:45 am]

BILLING CODE 3510-22-S